OFFICE OF THE UNITED STATES TRADE REPRESENTATIVE

Notice of Meeting of the Industry Sector Advisory Committee on Small and Minority Business (ISAC-14)

AGENCY: Office of the United States Trade Representative.

ACTION: Notice of meeting.

SUMMARY: The Industry Sector Advisory Committee on small and Minority Business will hold a meeting on January 29, 2001, from 9:15 a.m. to 3 p.m. The meeting will be opened to the public from 9:15 a.m. to 3 p.m.

DATES: The meeting is scheduled for January 29, 2001, unless otherwise notified.

ADDRESSES: The meeting will be held at the Department of Commerce, Conference room 4830, located at 14th Street between Pennsylvania and Constitution Avenues, NW., Washington, DC.

FOR FURTHER INFORMATION CONTACT: Millie Sjoberg, (202) 482-4792, Department of Commerce, 14th Street and Constitution Avenue, NW., Washington, DC 20230 (principal contact), or Dominic Bianchi, Office of the United States Trade Representative, 1724 F Street, NW., Washington, D.C. 20508, (202) 395-6120.

SUPPLEMENTARY INFORMATION: The following topics will be discussed:

• Discussion on 2001 APEC Small and Medium-sized enterprise (SME) Ministerial;

• Discussion on 2001 Summit of the Americas;

• Discussion on infrastructure security;

• Discussion on trade finance;

• Discussion on customs issues;

• Discussion on electronic commerce;

• Discussion on SME advocacy and outreach; and,

• Committee business.

Dominic Bianchi,
Acting Assistant United States Trade Representative for Intergovernmental Affairs and Public Liaison.

[FR Doc. 01-1532 Filed 1-17-01; 8:45 am]

BILLING CODE 3190-01-M